ENVIRONMENTAL PROTECTION AGENCY

[ER-FRL-9023-7]

Environmental Impact Statements; Notice of Availability

Responsible Agency: Office of Federal Activities, General Information (202) 564-7146 or http://www2.epa.gov/nepa.

Weekly receipt of Environmental Impact Statements

Filed 10/19/2015 Through 10/23/2015

Pursuant to 40 CFR 1506.9.

Notice

Section 309(a) of the Clean Air Act requires that EPA make public its comments on EISs issued by other Federal agencies. EPA's comment letters on EISs are available at: http://cdxnodengn.epa.gov/cdx-nepa-public/action/eis/search.

EIS No. 20150295, Draft, NPS, REG, Revision of 9B Regulations Governing Non-Federal Oil and Gas Activities, Comment Period Ends: 12/28/2015, Contact: Michael B. Edwards 303-969-2694.

EIS No. 20150296, Final, FEMA, OR, Southern Flow Corridor Project, Review Period Ends: 11/30/2015, Contact: Mark Eberlein 425-487-4735.

EIS No. 20150297, Final, USA, HI, Schofield Generating Station Project U.S. Army Garrison-Hawaii, Review Period Ends: 11/30/2015, Contact: Lisa Graham 808-656-3075.

EIS No. 20150298, Draft, USACE, MS, Proposed Port of Gulfport Expansion Project, Comment Period Ends: 12/14/2015, Contact: Philip Hegji 251-690-3222.

EIS No. 20150299, Final, NRC, WI, Construction Permit for the SHINE Medical Radioisotope Production Facility, Final Report, NUREG-2183, Review Period Ends: 11/30/2015, Contact: Michelle Moser 301-415-6509.

EIS No. 20150300, Draft, USACE, GA, Glades Reservoir Water Supply Project, Comment Period Ends: 12/29/2015, Contact: Richard W. Morgan 912-652-5139.

EIS No. 20150301, Draft, USFWS, CA, Delta Research Station Project: Estuarine Research Station and Fish Technology Center, Comment Period Ends: 12/14/2015, Contact: Barbara Beggs 916-930-5637.

EIS No. 20150302, Draft, NPS, WY, Moose-Wilson Corridor Draft Comprehensive Management Plan, Comment Period Ends: 12/29/2015, Contact: Chris Church 303-969-2276.

EIS No. 20150303, Final, AFS, BLM, NV, Greater Sage Grouse Bi-State Distinct Population Segment Forest Plan Amendment, Review Period Ends: 11/30/2015, Contact: James Winfrey 775-355-5308.

Dated: October 27, 2015.
Karin Leff,
Acting Director, NEPA Compliance Division, Office of Federal Activities.

[FR Doc. 2015-27732 Filed 10-29-15; 8:45 am]

BILLING CODE 6560-50-P